DEPARTMENT OF AGRICULTURE

Rural Utilities Service

Announcement of Grant Awards Under the RUS Distance Learning and Telemedicine Grant Program

AGENCY: Rural Utilities Service, USDA.

ACTION: Notice of applications selected to receive grant awards.

SUMMARY: The Rural Utilities Service (RUS) hereby announces the recipients that were selected to receive grant awards during fiscal year (FY) 2003 under the Distance Learning and Telemedicine Grant Program.

ADDRESSES: Applications are available for public inspection at the U.S. Department of Agriculture, 1400 Independence Avenue, SW., Washington, DC 20250.

FOR FURTHER INFORMATION CONTACT: Marilyn J. Morgan, Branch Chief, Distance Learning and Telemedicine Branch, U.S. Department of Agriculture, Rural Utilities Service. Telephone: (202) 720-0413, Fax (202) 720-1051. The list of awards may be viewed on the Internet at http://www.usda.gov/rus/telecom/dlt/dlt.htm.

SUPPLEMENTARY INFORMATION: Pursuant to 7 CFR 1703.101, RUS hereby publishes the names of the 84 organizations that have been awarded $32.5 million in grants under 7 CFR 1703, subpart D, Distance Learning and Telemedicine Grant Program. The recipients are as follows:

USDA, Rural Utilities Service, Telecommunications Program FY 2003 Distance Learning and Telemedicine Grant Awards
State/Organization | Amount
Alaska:
Denali Borough School District | $500,000
Kake City School District | 490,000
Pribilof School District | 500,000
Southeast Island School District | 485,732
Yukon-Koyukuk School District | 500,000
Arizona:
Arizona Western College | 487,978
Tuba City Regional Health Care | 191,500
Arkansas:
Arkansas School for Mathematics & Sciences | 425,820
Parkers Chapel School District | 354,850
California:
Monterey County Office of Education | 321,555
Oro Grande School District | 500,000
Colorado: Haxtun/Holyoke Distance Learning Consortium | 145,914
Florida:
Accelerated Care | 237,975
Human Services Associates, Inc. | 239,326
Georgia:
Darton College—Instructional Technology and Distance Learning | 62,000
Southwest Georgia Regional Services Agency | 499,515
Hawaii: Molokai Ohana Health Care, Inc | 283,500
Idaho:
Idaho State University (Media/Distance Learning Center) | 403,500
Lemhi County Economic Development Corporation | 82,866
Illinois: Southern Illinois Collegiate Common Market | 388,700
Indiana: Wilson Education Center | 500,000
Iowa: Mercy Medical Center | 287,362
Kansas:
Unified School District #364 | 442,860
Unified School District #442 | 456,239
Kentucky: Pikeville College | 74,661
Louisiana: Hospital Service District No. 2 of the Parish of LaSalle, Louisiana | 262,000
Maine:
Eastern Maine Healthcare | 500,000
Regional Medical Center at Lubec | 221,620
St. Joseph Healthcare Foundation | 500,000
Maryland: Sheppard Pratt Health System, Inc | 239,482
Massachusetts: Hampshire Educational Collaborative | 210,101
Michigan:
Borgess Health Alliance, Inc. | 369,121
Cybernet Medical Corporation | 496,588
MidMichigan Health Services | 334,462
Wexford-Missaukee Intermediate School District | 354,005
Minnesota:
Lakewood Health System | 494,115
St. Joseph Medical Center | 472,239
Missouri: Lafayette Regional Health Center | 89,928
Mississippi:
Jackson County School District | 500,000
Newton County School District | 500,000
South Central Mississippi Consortium for Educational Excellence and Development | 500,000
Montana: Benefis Healthcare Foundation | 404,086
Nebraska: Educational Service Unit #5 | 153,300
New Hampshire: Timberlane Regional School District | 499,996
New Mexico: University of New Mexico—Gallup | 478,555
New York: Madison-Oneida Board of Cooperative Educational Services | 500,000
Moses-Ludington Hospital | 499,800
St. Lawrence-Lewis BOCES | 500,000
North Carolina: The University of North Carolina Center for Public Television | 345,733
Ohio: Adams County Hospital | 446,142
Oklahoma:
Alva Hospital Authority dba Share Medical Center | 484,296
Caddo Kiowa Technology Center | 498,735
Choctaw Nation Health Services Authority | 166,950
Guymon Public Schools | 476,424
Western Oklahoma State College | 495,200
Oregon:
Rogue Community College District | 237,137
Sacred Heart Medical Center Foundation (PHOR) | 500,000
Samaritan North Lincoln Hospital | 233,548
Pennsylvania:
Albert Gallatin Area School District | 500,000
Laurel Highlands School District | 500,000
Warren County School District | 500,000
South Carolina:
Lee County School District | 500,000
Williamsburg County School District | 500,000
York Technical College | 460,303
South Dakota:
Avera St. Luke's Hospital | 252,875
Evangelical Lutheran Good Samaritan Society | 404,080
Southeast Area Cooperative | 499,996
Tennessee:
Lincoln Memorial University | 398,094
The University of Tennessee Health Science Center | 484,983
Texas:
Coastal Bend College | 475,000
Education Service Center Region XI | 500,000
Mt. Pleasant Independent School District | 441,426
Newton Economic Development Corporation | 500,000
Region XIV Education Service Center | 500,000
Utah: Confederated Tribes of the Goshute | 235,621
Vermont:
Central Vermont Home Health and Hospice, Inc. | 314,000
Dorset Nursing Association, Inc | 254,650
Virginia: Carilion Health System | 186,350
Washington:
Big Bend Community College | 500,000
Community Choice Healthcare Network | 414,847
Wellpinit School District | 250,000
West Virginia:
Clay County Board of Education | 500,000
Nicholas County School District | 500,000
Wyoming: Rehabilitation Enterprises of North Eastern Wyoming (RENEW) | 79,600

Dated: October 16, 2003.
Curtis M. Anderson,
Deputy Administrator for the Administrator, Rural Utilities Service.

[FR Doc. 03-26583 Filed 10-21-03; 8:45 am]

BILLING CODE 3410-15-P